DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of 1 individual and 1 entity whose property and interests in property are blocked pursuant to Executive Order 13224 of September 23, 2001, “Blocking Property and Prohibiting Transactions with Persons Who Commit, Threaten To Commit, or Support Terrorism.”

DATES: OFAC's actions described in this notice are effective on January 7, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On January 7, 2016, OFAC blocked the property and interests in property of the following 1 individual and 1 entity pursuant to E.O. 13224, “Blocking Property and Prohibiting Transactions With Persons Who Commit, Threaten To Commit, or Support Terrorism”:

Individual

1. CHARARA, Ali Youssef (a.k.a. SHARARA, Ali Youssef; a.k.a. SHARARA, 'Ali Yusuf), Ghobeiry Center, Mcharrafieh, Beirut, Lebanon; Verdun 732 Center, 17th Floor, Verdun, Rachid Karameh Street, Beirut, Lebanon; Al-Ahlam, 4th Floor, Embassies Street, Bir Hassan, Beirut, Lebanon; DOB 25 Sep 1968; POB Sidon, Lebanon; Gender Male (individual) [SDGT] (Linked To: HIZBALLAH).

Entity

1. SPECTRUM INVESTMENT GROUP HOLDING SAL (a.k.a. SPECTRUM INTERNATIONAL INVESTMENT HOLDING SAL; a.k.a. SPECTRUM INVESTMENT GROUP HOLDING; a.k.a. SPECTRUM INVESTMENT GROUP SAL HOLDING; a.k.a. SPECTRUM INVESTMENT HOLDING; a.k.a. “SPECTRUM HOLDING”), Floor 17, Verdun 732 Building, Rachid Karameh Street, Verdun, Beirut, Lebanon; Verdun 732 Center, Rachid Karame Street, Beirut, Lebanon; P.O. Box 113-5333, Beirut, Lebanon; Business Registration Document # 1990106 (Lebanon) [SDGT] (Linked To: CHARARA, Ali Youssef).

Dated: January 7, 2016.
John E. Smith,
Acting Director, Office of Foreign Assets Control.

[FR Doc. 2016-01828 Filed 2-1-16; 8:45 am]

BILLING CODE 4810-AL-P